POSTAL SERVICE

39 CFR Parts 952, 957, 958, 960, 962, 964, 965

Rules of Practice Before the Judicial Officer

AGENCY: Postal service.

ACTION: Final rule.

SUMMARY: The Postal Service is amending the Rules of Practice in Proceedings Relative to the Program Fraud Civil Remedies Act to reflect the change in primary responsibility to investigate violations of the Program Fraud Civil Remedies Act from the Postal Inspection Service to the Postal Service Inspector General. In addition, these rules of practice as well as the rules of practice in other proceedings before the Judicial Officer are being amended to correct typographical errors and omissions and make other technical changes.

EFFECTIVE DATE: October 4, 2002.

FOR FURTHER INFORMATION CONTACT: Diane M. Mego, (703) 812-1905.

SUPPLEMENTARY INFORMATION: As part of the creation of the Office of Inspector General in 1996, certain functions were transferred from the Postal Inspection Service to the Postal Service Office of Inspector General. Part 962 is being revised to reflect that investigations under this part are now conducted by the Office of Inspector General. In addition, these rules of practice as well as the rules of practice in other proceedings before the Judicial Officer are being amended to correct typographical errors and omissions and make other technical changes.

These revisions are changes in agency rules of practice before the Judicial Officer and do not substantially affect any rights or obligations of private parties. Therefore, it is appropriate for their adoption by the Postal Service to become effective immediately.

List of Subjects

39 CFR Part 952

Administrative practice and procedure, Fraud, Lotteries, Postal Service.

39 CFR Part 957

Administrative practice and procedure, Debarment, Suspension, Postal Service.

39 CFR Part 958

Administrative practice and procedure, Postal Service.

39 CFR Part 960

Administrative practice and procedure, Claims, Equal Access to Justice Act, Postal Service.

39 CFR Part 962

Administrative practice and procedure, Fraud, Program Fraud Civil Remedies Act, Postal Service.

39 CFR Part 964

Administrative practice and procedure, Fictitious names or addresses, Fraud, Lotteries, Postal Service.

39 CFR Part 965

Administrative practice and procedure, Mail disputes, Postal Service.

PART 952—RULES OF PRACTICE IN PROCEEDINGS RELATIVE TO FALSE REPRESENTATION AND LOTTERY ORDERS

The Postal Service adopts amendments to 39 CFR part 952 as specifically set forth below:

1. The authority citation for part 952 continues to read as follows:

Authority: 39 U.S.C. 204, 401, 3005, 3012, 3016.

§ 952.5 [Amended]

2. Section 952.5 is amended by revising “know” to read “known” in the next to last sentence of the paragraph.

§ 952.33 [Amended]

3. Section 952.33 is amended by revising “Law Librarian” to read “Librarian” and by revising “Law Library” to read “Library”.

PART 957—RULES OF PRACTICE IN PROCEEDINGS RELATIVE TO DEBARMENT AND SUSPENSION FROM CONTRACTING

The Postal Service adopts amendments to 39 CFR part 957 as specifically set forth below:

1. The authority citation for part 957 continues to read as follows:

Authority: 39 U.S.C. 204, 401.

§ 957.2 [Amended]

2. Section 957.2 is amended to revise the word “Procurement” to read “Purchasing”.

PART 958—RULES OF PRACTICE IN PROCEEDINGS RELATIVE TO THE REFUSAL TO PROVIDE POST OFFICE BOX OR CALLER SERVICE AND THE TERMINATION OF POST OFFICE BOX OR CALLER SERVICE

The Postal Service adopts amendments to 39 CFR part 958 as specifically set forth below:

1. The authority citation for part 958 continues to read as follows:

Authority: 39 U.S.C. 204, 401.

§ 958.3 [Amended]

2. Section 958.3(d) is amended by revising “asgency” to read “agency”.

PART 960—RULES RELATIVE TO IMPLEMENTATION OF THE EQUAL ACCESS TO JUSTICE ACT IN POSTAL SERVICE PROCEEDINGS

The Postal Service adopts amendments to 39 CFR part 960 as specifically set forth below:

1. The authority citation for part 960 continues to read as follows:

Authority: 5 U.S.C. 504(c)(1); 39 U.S.C. 204, 401(2).

§ 960.3 [Amended]

2. Section 960.3(b) is amended to revise “preclued” in the second sentence to read “preclude”.

PART 962—RULES OF PRACTICE IN PROCEEDINGS RELATIVE TO THE PROGRAM FRAUD CIVIL REMEDIES ACT

The Postal Service adopts amendments to 39 CFR part 962 as specifically set forth below:

1. The authority citation for part 962 continues to read as follows:

Authority: 31 U.S.C. Chapter 38; 39 U.S.C. 401.

§ 962.2 [Amended]

2. Section 962.2(d) and (m) are revised to read as follows:

§ 962.2 Definitions.

* * * * *

(d) Investigating Official refers to the Inspector General of the United States Postal Service or any designee within the Office of the Inspector General.

* * * * *

(m) Reviewing Official refers to the General Counsel of the Postal Service or any designee within the Law Department who serves in a position for which the rate of basic pay is not less than the minimum rate payable under section 5376 of title 5 of the United States Code.

§ 962.12 [Amended]

3. Section 962.12(f)(1) is amended by adding “not” after “is”.

§ 962.13 [Amended]

4. Section 962.13(f)(2) is amended by revising the word “marshall” to read “marshal” wherever it appears.

§ 962.21 [Amended]

5. Section 962.21(b)(4) is amended by revising “.hat” to read “that”.

PART 964—RULES OF PRACTICE GOVERNING DISPOSITION OF MAIL WITHHELD FROM DELIVERY PURSUANT TO 39 U.S.C. 3003, 3004

The Postal Service adopts amendments to 39 CFR part 964 as specifically set forth below:

1. The authority citation for part 964 continues to read as follows:

Authority: 39 U.S.C. 204, 401, 3003, 3004.

§ 964.1 [Amended]

2. Section 964.1 is amended by adding “States” after “United”.

§ 964.2 [Amended]

3. Section 964.2 is amended by removing “Service” after “Postal”.

PART 965—RULES OF PRACTICE IN PROCEEDINGS RELATIVE TO MAIL DISPUTES

The Postal Service adopts amendments to 39 CFR part 965 as specifically set forth below:

1. The authority citation for part 965 continues to read as follows:

Authority: 39 U.S.C. 204, 401.

§ 965.3 [Amended]

2. Section 965.3 is amended by removing “475 L'Enfant Plaza West, SW.,”.

Stanley F. Mires,
Chief Counsel, Legislative.

[FR Doc. 02-25168 Filed 10-3-02; 8:45 am]

BILLING CODE 7710-FW-P